DEPARTMENT OF THE INTERIOR

National Park Service

Notice of Intent to Repatriate Cultural Items: Science Museum of Minnesota, St. Paul, MN

AGENCY: National Park Service, Interior.

ACTION: Notice.

Notice is here given in accordance with the Native American Graves Protection and Repatriation Act (NAGPRA), 25 U.S.C. 3005, of the intent to repatriate cultural items in the possession of the Science Museum of Minnesota, St. Paul, MN that meets the definition of “sacred objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

In July of 1958, Mrs. Sidney A. Peterson purchased a water drum from Mrs. Ray Drift of Nett Lake, MN and a loon-head drumstick from Walter Drift from Nett Lake, MN.

In August of 1961, Mrs. Sidney A. Peterson purchased 10 objects relating to the Midewiwin religion, a Mide kit, medicine pouches, medicines, and metal containers holding hides, animal skins, cloth bags and smaller metal tins, metal graters and a rattle from Jack Chicag of Nett Lake, MN.

Museum accession, catalogue, collector notes and purchase records, as well as consultation with representatives of the Bois Forte Band (Nett Lake) of the Minnesota Chippewa Tribe, Minnesota indicate that the 12 cultural objects are Chippewa and are from the Nett Lake Reservation, MN and are sacred objects. The sacred objects are derived from the Midewiwin Society, also known as the Medicine Lodge Society, and needed by Midewiwin Society members to conduct ceremonies and religious leaders of the Minnesota Chippewa Tribe, Minnesota for the practice of traditional Native American religious ceremonies.

Officials of the Science Museum of Minnesota have determined that, pursuant to 25 U.S.C. 3001 (3)(C), the 12 cultural items described above are specific ceremonial objects needed by traditional Native American religious leaders for the practice of traditional Native American religions by their present-day adherents. Officials of the Science Museum of Minnesota also have determined that, pursuant to 25 U.S.C. 3001 (2), there is a relationship of shared group identity that can be reasonably traced between the sacred objects and the Bois Forte Band (Nett Lake) of the Minnesota Chippewa Tribe, Minnesota.

Representatives of any other Indian tribe that believes itself to be culturally affiliated with the sacred objects should contact Tilly Laskey, Curator of Ethnology, Science Museum of Minnesota, St. Paul, MN 55102, telephone (651)-221-9432 before September 24, 2007. Repatriation of the sacred objects to the Bois Forte Band (Nett Lake) of the Minnesota Chippewa Tribe, Minnesota may proceed after that date if no additional claimants come forward.

The Science Museum of Minnesota is responsible for notifying the Bois Forte Band (Nett Lake) of the Minnesota Chippewa Tribe, Minnesota that this notice has been published.

Dated: August 7, 2007
Sherry Hutt,
Manager, National NAGPRA Program.

[FR Doc. E7-16779 Filed 8-23-07; 8:45 am]

BILLING CODE 4312-50-S